DEPARTMENT OF DEFENSE

Department of the Army, Corps of Engineers

Availability of the Final Environmental Impact Statement for the St. Lucie South Beach and Dune Restoration Project located in St. Lucie County, Florida

AGENCY: U.S. Army Corps of Engineers, DoD.

Cooperating Agency: The Bureau of Ocean Energy, Management, Regulation and Enforcement (BOEMRE) is a cooperating federal agency having jurisdiction by law because the proposed federal action includes potential future use of beach compatible sand originating from the outer continental shelf.

ACTION: Notice of availability.

SUMMARY: The U.S. Army Corps of Engineers (USACE) is issuing this notice to advise the public that a Final Environmental Impact Statement (FEIS) has been completed and is available for review and comment.

DATES: In accordance with the National Environmental Policy Act (NEPA), we have filed the FEIS with the U.S. Environmental Protection Agency (EPA) for publication of their notice of availability in the Federal Register. The EPA notice officially starts the 45-day review period for this document. It is the goal of the USACE to have this notice published on the same date as the EPA notice. However, if that does not occur, the date of the EPA notice will determine the closing date for comments on the FEIS. Comments on the FEIS must be submitted to the address below under FOR FURTHER CONTACT INFORMATION and must be received no later than 5 p.m. Eastern Standard Time, Monday, April 16, 2012.

Scoping: A Scoping Meeting was held in Ft. Pierce, FL on May 19th, 2010 to gather information for the preparation of the Draft Environmental Impact Statement (DEIS). A Public notice was posted in a St. Lucie County newspaper, and mailed to current stakeholder lists with notification of the public meetings requesting input and comments on issues that should be addressed in the DEIS.

DEIS and Public Comment. The Notice of Availability of the DEIS was published June 3 2011, with a comment period ending 5 p.m. July 18, 2011. A public comment meeting was held June 29, 2011 at the St. Lucie County government offices. After receiving public comments, the USACE reviewed all relevant comments and concerns. After the comment period, the DEIS was revised to be the FEIS in order to address the comments and concerns, or to include additional requested information. On January 5, 2012, the applicant revised its preferred alternative to an alternative with fewer adverse environmental effects on nearshore hardbottom.

ADDRESSES: The FEIS is available online on the Jacksonville District Web site at: http://www.saj.usace.army.mil/Divisions/Regulatory/interest.htm. Printed copies of the FEIS are also available for public review at the following locations:

1. St. Lucie County Administration Building, 2300 Virginia Ave., Fort Pierce, FL 34982.

2. St. Lucie County Ft. Pierce Branch Library 101 Melody Lane, Fort Pierce, 34950.

3. St. Lucie County Lakewood Park Branch Library 7605 Santa Barbara Drive, Fort Pierce, 34951.

4. St. Lucie West Library J Building, 500 NW. California Blvd., Port St. Lucie, 34986,

5. USACE Palm Beach Gardens Regulatory Office, 4400 PGA Boulevard, Suite 500 Palm Beach Gardens, Florida 33410.

FOR FURTHER INFORMATION CONTACT: Ms. Leah Oberlin, Chief, Palm Beach Gardens Section, U.S. Army Corps of Engineers, Jacksonville District, 4400 PGA Boulevard, Suite 500, Palm Beach Gardens, FL 33410, Telephone: 561-472-3517, Fax: 561-626-6971.

SUPPLEMENTARY INFORMATION: The project is being reviewed under Department of the Army permit application number SAJ-2009-03448(IP-GGL). The primary Federal involvement associated with the Proposed Action is the dredging and discharge of fill within navigable waters of the United States pursuant to Section 404 of the Clean Water Act (33 U.S.C. 1344) and Section 10 of the Rivers and Harbors Act of 1899 (33 U.S.C. 403).

Proposed Action: The project is located on South Hutchinson Island in St. Lucie County and is approximately 3.4 miles in length. The project coincides approximately with Florida Department of Environmental Protection Shoreline Monuments R-98 to R-115+1,000 ft, the St. Lucie/Martin County line. The northern limit of the project is approximately 16,000 feet south of the Hutchinson Island Nuclear Plant. The project was proposed by the St. Lucie County Erosion District (applicant) to stabilize the beach and dune to protect essential upland infrastructure, upland property, expand turtle nesting habitat, and increase recreational opportunities. The applicant's preference is to utilize a hopper dredge to obtain 485,900 cubic yards of beach compatible sand from a borrow area approximately 3.0 miles offshore of St. Lucie County. The hopper dredge would deliver the sand by hydraulic pumping onto the project beach. The applicant has stated the project was anticipated to adversely affect approximately 1.57 acre of near-shore hard bottom habitat. The impacts include: 0.55 acres of near-shore hard bottom habitat through direct burial, 0.02 acres of impacts associated with temporary pipeline placement, and 1.0 acre of temporary construction-related turbidity impacts. The proposal is for new major construction seeking federal authorization, and the USACE is required to prepare an EIS when significant environmental effects on the human environment are anticipated for compliance with the National Environmental Policy Act (NEPA). The FEIS states the purpose and need for the Proposed Action and the identified reasonable alternatives that may achieve the project purpose. The alternatives include the no-action alternative, and six other alternatives including the applicant's Proposed Action. Each of the alternatives identified in the FEIS include varying degrees of hardbottom impacts associated with beach and/or dune fill with and without stabilizing structures (T-head groins). The EIS process also provides opportunity for stakeholder involvement in order for the USACE to render an informed final decision on the applicant's proposal. The USACE's decision will be to authorize, modify, or deny the applicant's Proposed Action.

Donald W. Kinard,
Chief, Regulatory Division, Jacksonville District.

[FR Doc. 2012-5253 Filed 3-2-12; 8:45 am]

BILLING CODE 3720-58-P